DEPARTMENT OF COMMERCE

International Trade Administration

[C-570-978]

Certain High Pressure Steel Cylinders From the People's Republic of China: Rescission of Countervailing Duty Administrative Review; 2014

AGENCY: Enforcement and Compliance, International Trade Administration, Department of Commerce.

SUMMARY: The Department of Commerce (the Department) is rescinding the administrative review of the countervailing duty (CVD) order on certain high pressure steel cylinders (HPSC) from the People's Republic of China (PRC) for the period of review (POR) January 1, 2014, through December 31, 2014, based on the timely withdrawal of the request for review.

DATES: Effective Date: October 15, 2015.

FOR FURTHER INFORMATION CONTACT: Mark Kennedy, AD/CVD Operations, Office I, Enforcement and Compliance, International Trade Administration, U.S. Department of Commerce, 14th Street and Constitution Avenue NW., Washington, DC 20230; telephone: (202) 482-7883.

SUPPLEMENTARY INFORMATION:

Background

On June 1, 2015, the Department published the notice of opportunity to request an administrative review of the order on HPSC from PRC for the period of review January 1, 2014, through December 31, 2014.¹ On June 15, 2015, Norris Cylinder Company (Norris) requested that the Department conduct an administrative review of Beijing Tianhai Industry Co., Ltd. (BTIC).² On June 30, 2015, BTIC requested an administrative review of its POR sales.³ Pursuant to the requests and in accordance with 19 CFR 351.213(b), the Department published a notice initiating an administrative review of BTIC.⁴ On September 9, 2015, both Norris and BTIC timely withdrew their requests for an administrative review of BTIC.⁵

¹ See Antidumping or Countervailing Duty Order, Finding, or Suspended Investigation; Opportunity to Request Administrative Review, 80 FR 31017 (June 1, 2015).

² See Letter from Norris, “High Pressure Steel Cylinders from the People's Republic of China Request for Administrative Review,” dated June 15, 2015.

³ See Letter from BTIC, “Request for the Third Administrative Review of the Countervailing Duty Order on High Pressure Steel Cylinders from the People's Republic of China, C-570-978 (POR:01/01/14-12/31/14),” dated June 30, 2015.

⁴ See Initiation of Antidumping and Countervailing Duty Administrative Reviews, 80 FR 45947 (August 3, 2015).

⁵ See Letter from Norris, “Withdrawal of Request for an Administrative Review of the Countervailing Duty Order on High Pressure Steel Cylinders from the People's Republic of China,” dated September 9, 2015; Letter from BTIC, “Withdrawal of Review Request in the Third Administrative Review of Countervailing Duty Order on High Pressure Steel Cylinders from the People's Republic of China,” dated September 9, 2015.

Rescission of Review

Pursuant to 19 CFR 351.213(d)(1), the Department will rescind an administrative review, in whole or in part, if the party or parties that requested a review withdraws the request within 90 days of the publication date of the notice of initiation of the requested review. As noted above, both Norris and BTIC withdrew their requests, and they did so within 90 days of the publication date of the notice of initiation. No other parties requested an administrative review of the order. Therefore, in accordance with 19 CFR 351.213(d)(1), we are rescinding this review in its entirety.

Assessment

The Department will instruct U.S. Customs and Border Protection (CBP) to assess countervailing duties on all appropriate entries of HPSC from PRC. CVDs shall be assessed at rates equal to the cash deposit of estimated CVDs required at the time of entry, or withdrawal from warehouse, for consumption in accordance with 19 CFR 351.212(c)(1)(i). The Department intends to issue appropriate assessment instructions to CBP 15 days after the date of publication of this notice of rescission of administrative review.

Notifications

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: October 8, 2015.
Christian Marsh,
Deputy Assistant Secretary for Antidumping and Countervailing Duty Operations.

[FR Doc. 2015-26281 Filed 10-14-15; 8:45 am]

BILLING CODE 3510-DS-P